NATIONAL SCIENCE FOUNDATION

Proposal Review Panel for Materials Research; Notice of Meeting

In accordance with the Federal Advisory Committee Act (Pub. L. 92-463 as amended), the National Science Foundation announces the following meeting:

Name: Site Visit review of the Materials Research Science and Engineering Center (MRSEC) at Northwestern University, Evanston, IL (DMR) #1203.

Dates & Times: Wednesday, June 10, 2009; 5:30 p.m.-9 p.m.; Thursday, June 11, 2009; 8 a.m.-9p.m.; Friday, June 12, 2009; 7:30 a.m.-3:30 p.m.

Place: Northwestern University, Evanston, IL.

Type of Meeting: Part-open.

Contact Person: Dr. Rama Bansil Program Director, Materials Research Science and Engineering Centers Program, Division of Materials Research, Room 1065, National Science Foundation, 4201 Wilson Boulevard, Arlington, VA 22230, Telephone (703) 292-8562.

Purpose of Meeting: To provide advice and recommendations concerning further support of the MRSEC @ Northwestern University, Evanston, IL.

Agenda:

Wednesday, June 10, 2009

5:30 p.m.-6:30 p.m.—Closed—Executive Session; 6:30 p.m.-9 p.m.—Open—Review of MRSEC at Northwestern University

Thursday, June 11, 2009

8 a.m.-5 p.m. Open—Review of the MRSEC at Northwestern University; 5 p.m.-6:45 p.m. Closed—Executive Session; 6:45 p.m.-9 p.m. Open—Dinner.

Friday, June 12, 2009

7:30 a.m.-3:30 p.m. Closed—Executive Session, Draft and Review Report.

Reason for Closing: The work being reviewed may include information of a proprietary or confidential nature, including technical information; financial data, such as salaries and personal information concerning individuals associated with the proposals. These matters are exempt under 5 U.S.C. 552 b(c), (4) and (6) of the Government in the Sunshine Act.

Dated: April 28 2009.
Susanne Bolton,
Committee Management Officer.

[FR Doc. E9-10025 Filed 4-30-09; 8:45 am]

BILLING CODE 7555-01-P